DEPARTMENT OF THE INTERIOR

Bureau of Indian Affairs

Notice of Intent To Prepare an Environmental Impact Statement for the Proposed Integrated Resource Management Plan for the Spokane Indian Reservation, Stevens County, WA

AGENCY: Bureau of Indian Affairs, Interior.

ACTION: Notice.

SUMMARY: The Bureau of Indian Affairs (BIA) and the Spokane Tribe of Indians, as co-lead agencies, intend to prepare an Environmental Impact Statement (EIS) on a proposed update to the Integrated Resource Management Plan (IRMP) for the Spokane Indian Reservation. The purpose of updating the IRMP is to develop long-term resource management policies that will ensure direction and stability for needed sustained growth of reservation economics, compatible with traditional values and needs for a quality human environment. Details on the project area and the proposed action are provided in the SUPPLEMENTARY INFORMATION section. This notice also announces a public scoping meeting for the content of the EIS.

DATES: Comments on the scope and content of the EIS must arrive by February 7, 2003. The public scoping meeting will be held on Thursday, January 23, 2003, at 6 p.m.

ADDRESSES: You may mail or hand carry written comments to Rudy Peone, Spokane Tribe Department of Natural Resources, P.O. Box 480, Wellpinit, Washington 99040; or to Ted Hensold, Bureau of Indian Affairs, Spokane Agency, P.O. Box 389, Wellpinit, Washington 99040. You may also telefax comments to Rudy Peone at (509) 258-9600. Please include your name and mailing address with your comments so documents pertaining to this project may be sent to you.

The public meeting will be held at the Fire Management Conference Room, 6290 Ford-Wells Road, Wellpinit, Washington.

FOR FURTHER INFORMATION CONTACT: Rudy Peone, 509-258-9042, extension 14.

SUPPLEMENTARY INFORMATION: The boundaries of the Spokane Indian Reservation encompass approximately 157,000 acres, located in southern Stevens County, Washington. These include 110,500 acres of tribal trust lands, 1,400 acres of tribal fee lands, 24,800 acres of individually owned trust (allotment) lands, 14,400 acres of private fee lands, 1,100 acres of Bureau of Reclamation (BOR) lands above the Lake Roosevelt high pool line, and about 4,800 acres covered by Lake Roosevelt, under BOR administration. The lands range from dry, ponderosa pine steppe on the southern boundary of the Spokane River at 1,300 foot elevation to moist, inland coniferous forest on the northern portion of the reservation where elevation reaches about 4,000 feet.

Major land uses include timber management, livestock grazing, agriculture, hunting and fishing, recreation, and cultural practices. Timber harvesting occurs on about 108,000 acres of commercial forest lands.

The Spokane Tribe first enacted an IRMP in 1994. Its purpose was to provide a holistic framework to guide all land management of the reservation. It is now approaching its useful end. While the IRMP served an important role in managing resources during the formative stages of the Tribe's natural resource programs, human population growth and various economic activities have placed new and competing demands on reservation resources. These changes include encroachment of housing into formerly unpopulated areas; local shortages of drinking water during dry periods; increased demand for employment related to natural resource extraction and use; larger areas impacted by economic development; increased visitor and tourist traffic; increasing threats to surface and ground water resources by solid waste, sewage discharge, timber harvesting and other economic activities; and aesthetic degradation.

The proposed update of the IRMP will integrate more specific policies for land uses, natural resources, economic development and cultural resources and values on all lands within the boundaries and/or under the jurisdiction of the reservation. Services that affect natural resources and are affected by land use designations (such as housing, utilities, and roads) are also included. The proposed action includes specifically and accurately identifying the current needs that affect the natural resources on the reservation, projecting needs over the next 10 years, and developing the range of feasible alternatives to address those needs.

In addition to no action (continued management under the current IRMP), the alternatives will include a mix of possibilities for change which relate to each specific resource. Timber harvest options may range from a diminished harvest level to allow maximum protection of soil, water, cultural and aesthetic resources to an increased harvest level to meet economic demands of the Tribe. Housing options may range from unrestricted locating of housing through various forms of restrictions to protect natural areas. Recreation options may range from commercial development of recreation opportunities to attract vacationers from around the region to creating opportunities for tribal members alone. Range management options may include terminating the open range policies versus restricting open range to limited areas or pasture leases. Water resources options may include a more flexible approach to the current fixed riparian buffers or increasing those buffers. Cultural resource management options may range from protecting only those resources which are defined in the National Historic Preservation Act to defining standards for protection of cultural properties and cultural landscapes which are uniquely important to the Spokane Tribe.

Public Comment Availability

Comments, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: December 18, 2002.
Neal A. McCaleb,
Assistant Secretary—Indian Affairs.

[FR Doc. 03-427 Filed 1-8-03; 8:45 am]

BILLING CODE 4310-W7-P